COMMITTEE FOR THE IMPLEMENTATION OF TEXTILE AGREEMENTS

Cancellation of Textile Visa Requirements for Laos

December 30, 2004.

AGENCY: Committee for the Implementation of Textile Agreements (CITA).

ACTION: Issuing a directive to the Commissioner, Bureau of Customs and Border Protection canceling all previous directives concerning visa requirements for Laos.

EFFECTIVE DATE: January 1, 2005.

FOR FURTHER INFORMATION CONTACT: Philip J. Martello, Director, Trade and Data Division, Office of Textiles and Apparel, U.S. Department of Commerce, (202) 482-3400.

SUPPLEMENTARY INFORMATION:

Authority: Executive Order 11651 of March 3, 1972, as amended; Section 204 of the Agricultural Act of 1956, as amended (7 U.S.C. 1854).

Due to the expiration on December 31, 2004 of the bilateral textile agreement with Laos, the United States is cancelling visa requirements for textile products from Laos exported after that date.

In the letter below, CITA is directing the Bureau of Customs and Border Protection to cancel all textile visa requirements for goods exported from Laos on and after January 1, 2005.

D. Michael Hutchinson,
Acting Chairman, Committee for the Implementation of Textile Agreements.

Committee for the Implementation of Textile Agreements

December 30, 2004.

Commissioner,

Bureau of Customs and Border Protection, Washington, D.C. 20229.

Dear Commissioner: This directive cancels all previous directives issued to you by the Chairman, Committee for the Implementation of Textile Agreements concerning textile visa requirements for goods produced or manufactured in Laos. Effective for such goods exported from Laos on and after January 1, 2005, you are directed not to require a textile visa for entry into the Customs territory of the United Sates.

The Committee for the Implementation of Textile Agreement has determined that this action falls within the foreign affairs exception to the rulemaking provisions of 5 U.S.C. 553(a)(1).

Sincerely,

D. Michael Hutchinson,

Acting Chairman, Committee for the Implementation of Textile Agreements.

[FR Doc. 05-196 Filed 1-4-05; 8:45 am]

BILLING CODE 3510-DS-S